DEPARTMENT OF THE INTERIOR

Bureau of Land Management

[LLUTG01100-13-L51010000-ER0000 LVRWJ13J8060 13X]

Notice of Intent To Prepare an Environmental Impact Statement for the Enefit American Oil Utility Corridor Project, UT

AGENCY: Bureau of Land Management, Interior.

ACTION: Notice of Intent.

SUMMARY: In compliance with the National Environmental Policy Act of 1969, as amended (NEPA), and the Federal Land Policy and Management Act of 1976, as amended, and the Mineral Leasing Act of 1920, as amended, the Bureau of Land Management (BLM) Vernal Field Office, Vernal, Utah, intends to prepare an Environmental Impact Statement (EIS) for right-of-way (ROW) applications for the Enefit American Oil Utility Corridor Project (Utility Corridor Project), and by this notice is announcing the beginning of the scoping process to solicit public comments and identify issues.

DATES: This notice initiates the public scoping process for the EIS. Comments on issues must be submitted by July 31, 2013. The date(s) and location(s) of any public scoping meetings will be announced at least 15 days in advance through local news media, a project newsletter, and the BLM Web site at: http://www.blm.gov/ut/st/en/info/newsroom.2.html. Additional opportunities for public participation will be provided upon publication of the Draft EIS.

ADDRESSES: Comments on issues related to the Enefit Utility Corridor Project may be submitted by any of the following methods:

• Email: UT_Vernal_Comments@blm.gov

• Fax: (435) 781-4410

• Mail: 170 South 500 East, Vernal, Utah 84078

Documents pertinent to this proposal may be examined at the BLM Vernal Field Office.

FOR FURTHER INFORMATION CONTACT: For further information and/or to have your name added to the Utility Corridor Project mailing list, contact Stephanie Howard, BLM Project Manager; telephone 435-781-4469; email: Stephanie_Howard@blm.gov. Persons who use a telecommunications device for the deaf (TDD) may call the Federal Information Relay Service (FIRS) at 1-800-877-8339 to contact the above individual during normal business hours. The FIRS is available 24 hours a day,7 days a week, to leave a message or question with the above individual. You will receive a reply during normal business hours.

SUPPLEMENTARY INFORMATION: The applicant, Enefit American Oil, has filed ROW applications seeking authorization to construct and operate natural gas, electricity, and water utilities on Federal lands. As proposed, 19 miles of water supply pipeline, 8 miles of natural gas supply pipeline, 10 miles of oil product line, 29 miles of single or dual overhead 138-kilovolt H-frame powerlines, and 5 miles of Dragon Road upgrade and pavement would be constructed and operated in 5 separate utility corridors crossing BLM-administered lands within the Project area.

The Utility Corridor Project would provide natural gas, electricity, and water to, and move processed oil from, Enefit American Oil's “South Project,” which is planned on private land and minerals owned by Enefit. The Enefit American Oil's planned South Project will include development of a commercial oil shale mining, retorting, and upgrading operation located in Uintah County, Utah. Approval or disapproval of Enefit American Oil's South Project is outside of the BLM's authority because it is located on private lands and minerals; however, since it is a connected and cumulative action to the Utility Corridor Project, the potential indirect and cumulative effects associated with the South Project will be analyzed and disclosed in the Utility Corridor Project EIS.

The Utility Corridor Project area is located within the southern portion of Townships 8-10 South, Ranges 24-25 East, Salt Lake Meridian, in Uintah County, Utah, approximately 12 miles southeast of Bonanza, Utah. Vernal, Utah, is the nearest major municipality, located approximately 40 miles north of the Utility Corridor Project area. The community of Rangely, Colorado, is located approximately 25 miles northeast of the Enefit American Oil's planned South Project site. The requested ROW widths for the Utility Corridor Project range from 50 feet, where a single pipeline would be located, to over 350 feet, where gas, water, and product lines would be located adjacent to overhead transmission lines.

Alternatives identified at this time include the proposed action and the no action alternatives. Additional alternatives will be developed as a result of issues and concerns identified through the scoping process.

The BLM Vernal Field Office Record of Decision and Approved Resource Management Plan (RMP) (October 2008) directs management of the BLM-administered public lands within the Utility Corridor Project area. The RMP provides for issuance of new ROWs (RMP, pp. 96 and 97). An amendment of the RMP is not required.

Pursuant to Section 368 of the Energy Policy Act of 2005 (42 U.S.C. 15926), a Programmatic EIS was prepared by the Department of Energy for energy corridors in the 11 western states (Washington, Oregon, Idaho, Montana, Wyoming, California, Nevada, Utah, Colorado, Arizona, and New Mexico), and notice of its availability was published on November 28, 2008 (73 FR 72521). Records of Decision (ROD) signed January 14, 2009, designated energy corridors and provided guidance, best management practices, and mitigation measures to be used where linear facilities are proposed crossing Federal lands. Designation of corridors does not require their use, nor does such designation exempt the Federal agencies from conducting an environmental review on each project therein. The Final RODs are available at the following Web site: http://corridoreis.anl.gov/eis/guide/index.cfm. The Project EIS will take into consideration the use of guidance, best management practices, and mitigation measures described in the RODs.

The BLM is the designated lead Federal agency for preparation of the EIS as defined in 40 CFR 1501.5. Agencies with legal jurisdiction or special expertise have been invited to participate as cooperating agencies in preparation of the EIS including: U.S. Army Corps of Engineers, U.S. Environmental Protection Agency, U.S. Bureau of Indian Affairs, Utah Public Lands Policy and Coordination Office, and the Ute Indian Tribe. The purpose of the public scoping process is to determine relevant issues that will influence the scope of the environmental analysis, including alternatives, and guide the process for developing the EIS. At present, the BLM has identified the following resources as potentially being impacted by the project: local and regional air quality and air quality related values; surface water and groundwater resources; floodplains; cultural and paleontological resources; soils; special status plant and animal species; range management; recreation; the White River; regional social programs; and regional economics.

The BLM will use and coordinate the NEPA commenting process to assist in satisfying the public involvement process for Section 106 of the National Historic Preservation Act (16 U.S.C. 470f) as provided for in 36 CFR 800.2(d)(3). Native American Tribal consultations will be conducted and Tribal concerns will be given due consideration, including impacts on Indian trust assets. Federal, State, and local agencies, along with other stakeholders that may be interested or affected by the BLM's decision on this project are invited to participate in the scoping process and, if eligible, may request or be requested by the BLM to participate as a cooperating agency.

Comments may be submitted in writing to the BLM at any public scoping meeting, or you may submit them to the BLM using one of the methods listed in the ADDRESSES section above. To be considered, comments must be submitted by July 31, 2013.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jenna Whitlock,
Associate State Director.

[FR Doc. 2013-15679 Filed 6-28-13; 8:45 am]

BILLING CODE 4310-DQ-P